DEPARTMENT OF COMMERCE

Foreign-Trade Zones Board

[Order No. 2069]

Expansion of Foreign-Trade Zone 15; Under Alternative Site Framework Kansas City, Missouri

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board adopted the alternative site framework (ASF) (15 CFR S. 400.2(c)) as an option for the establishment or reorganization of zones;

Whereas, the Greater Kansas City Foreign-Trade Zone, Inc., grantee of Foreign-Trade Zone 15, submitted an application to the Board (FTZ Docket B-70-2017, docketed November 8, 2017) for authority to modify the boundaries of existing Site 3 at the Kansas City International Airport facility by removing and adding acreage under the ASF, in the Kansas City Customs and Border Protection port of entry;

Whereas, notice inviting public comment was given in the Federal Register (82 FR 52878, November 15, 2017) and the application has been processed pursuant to the FTZ Act and the Board's regulations; and,

Whereas, the Board adopts the findings and recommendations of the examiner's report, and finds that the requirements of the FTZ Act and the Board's regulations are satisfied;

Now, therefore, the Board hereby orders:

The application to expand FTZ 15—Site 3 under the ASF is approved, subject to the FTZ Act and the Board's regulations, including Section 400.13, and to the Board's standard 2,000-acre activation limit for the zone.

Dated: October 25, 2018.
Gary Taverman,
Deputy Assistant Secretary for Antidumping and Countervailing Duty Operations, performing the non-exclusive functions and duties of the Assistant Secretary for Enforcement and Compliance Alternate Chairman Foreign-Trade Zones Board.

[FR Doc. 2018-23794 Filed 10-30-18; 8:45 am]

BILLING CODE 3510-DS-P